DEPARTMENT OF ENERGY

Federal Energy Regulatory Commission

[Docket Nos. CP15-550-002; CP15-550-000]

Notice of Request for Extension of Time; Venture Global Calcasieu Pass, LLC

Take notice that on February 15, 2024, Venture Global Calcasieu Pass, LLC (Venture Global) requested that the Federal Energy Regulatory Commission (Commission) grant an extension of time (2023 Extension of Time Request), until February 21, 2025, to construct and make available for service a new liquefied natural gas (LNG) export terminal and associated facilities along the Calcasieu Ship Channel in Cameron Parish, Louisiana, authorized by the Commission in Docket No. CP15-550-000.¹

¹ Venture Global Calcasieu Pass, LLC, 166 FERC ¶ 61,144 (2019) (Authorization Order) (requiring the facilities to be constructed by February 21, 2024).

This notice establishes a 15-calendar day intervention and comment period deadline. Any person wishing to comment on Venture Global's request for an extension of time may do so. No reply comments or answers will be considered. If you wish to obtain the rights afforded parties to the above captioned proceedings, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested.² For those extension requests that are contested, the Commission will aim to issue an order acting on the request within 45 days.³ The Commission will address all arguments relating to whether the applicant has demonstrated there is good cause to grant the extension.⁴ The Commission will not consider arguments that seek to re-litigate the issuance of the Authorization Order, including whether the Commission properly found the project to be not inconsistent with the public interest and whether the Commission's environmental analysis for the authorization complied with the National Environmental Policy Act.⁵ The Director of the Office of Energy Projects, or his or her designee, will act on all of those extension requests that are uncontested.

² Contested proceedings are those where an intervenor disputes any material issue of the filing. 18 CFR 385.2201(c)(1) (2023).

³ Algonquin Gas Transmission, LLC, 170 FERC ¶ 61,144, at P 40 (2020).

⁴ Id.

⁵ Id.

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (866) 208-3676 or TTY, (202) 502-8659.

The Commission strongly encourages electronic filings of comments, protests, and interventions in lieu of paper using the “eFiling” link at http://www.ferc.gov. In lieu of electronic filing, you may submit a paper copy which must reference the Project docket number.

To file via USPS: Debbie-Anne A. Reese, Acting Secretary, Federal Energy Regulatory Commission, 888 First Street NE, Washington, DC 20426.

To file via any other courier: Debbie-Anne A. Reese, Acting Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on, March 8, 2024.

Dated: February 22, 2024.
Debbie-Anne A. Reese,
Acting Secretary.

[FR Doc. 2024-04183 Filed 2-28-24; 8:45 am]

BILLING CODE 6717-01-P